FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Tropical Wind Cargo International, LLC, 8305 NW., 27 Street, Suite 113-B, Miami, FL 33122. Officers: Vivian Gonzalez, Manager, (Qualifying Individual), Eduardo Li Sanchez, Manager.

WEL Logistics, Inc., 11161 Fraley Street, Garden Grove, CA 92541. Officers: Andy Song, President, (Qualifying Individual), Hyun J. Lee, Secretary.

Ridge International Freight, Ltd., dba RIF Line, 2125 196th Street SW., Suite 118, Lynnwood, WA 98036. Officer: Qi Ye, President, (Qualifying Individual).

PAB Shipping Inc. dba PAB Maritime Service, 159 N. Courtland Street, East Stroudsburg, PA 18301. Officer: Pierangelo Bonati, President, (Qualifying Individual).

Autolog Forwarding Corporation, 1701 East Linden Avenue, Linden, NJ 07036. Officers: Larry Vasconez, Asst. Vice President, (Qualifying Individual), Myron Levine, President.

Non-Vessel-Operating Common Carrier and Ocean Freight Forwarder Transportation Intermediary Applicants:

Agent's House International, Inc., 2120 Dennis Street, Jacksonville, FL 32204. Officers: Kim Highsmith, Chief Operating Officer, (Qualifying Individual), Ronald Avery, President.

SYL Cargo USA, Inc. dba SYL Cargo, 8484 NW., 72nd Street, Miami, FL 33166. Officers: Enrique J. Chia, General Manager, (Qualifying Individual), Diana Cevallos, President.

Gridiron Forwarding Co., Inc., 731 Route 18 South, East Brunswick, NJ 08816. Officer: Donald G. Goldberg, President, (Qualifying Individual).

China Container Line Ltd., 17800 Castleton Street, Suite 158, City of Industry, CA 91748. Officers: Arthur King, President, (Qualifying Individual), Howard Chan, Treasurer.

Epic International Transport, LLC, 6048 Lido Lane, Long Beach, CA 90803. Officer: Charles Alphonsus Brennan, Manager, (Qualifying Individual).

Ocean Freight Forwarder—Ocean Transportation Intermediary Applicants:

JC Logistics, 30040 58th Place S., Auburn, Washington 98001, Cheryl Wilson, Sole Proprietor.

Action Brokerage Corp., 4477 NW., 97 Avenue, Miami, FL 33178. Officers: Elizabeth Zaldivar, President, (Qualifying Individual), John E. Lebold, Vice President.

MTHM, Inc., 6800 Sands Point, Houston, TX 77074. Officer: Thomas W. Chapman, President, (Qualifying Individual).

Carlin Logistics Incorporated, 441 N. Park Blvd., Unit 5J, Glen Ellyn, IL 60137. Officers: Linda Adams, President, (Qualifying Individual), Carl S. Adams, Vice President.

Dated: February 11, 2005.
Bryant L. VanBrakle,
Secretary.

[FR Doc. 05-2997 Filed 2-15-05; 8:45 am]

BILLING CODE 6730-01-P